DEPARTMENT OF HEALTH AND HUMAN SERVICES

National Committee on Vital and Health Statistics: Meeting

Pursuant to the Federal Advisory Committee Act, the Department of Health and Human Services announces the following advisory committee meeting.

NAME: National Committee on Vital and Health Statistics (NCVHS).

TIME AND DATE: 1:30-3:30 EST, February 2, 2000.

PLACE: Conference Call, Participants Dial-in Number: 1-888-422-7105, Participants Code: 348362.

STATUS: Open.

PURPOSE: During this conference call, the Committee will discuss the Notice of Proposed Rule Making (NPRM) issued by HHS on Standards for Privacy of Individually Identifiable Health Information and review draft comments on the NPRM developed by the Subcommittee on Privacy.

NOTICE: This conference call is open to the public using the participants' dial-in telephone number and participants' code, but access may be limited by the number of available telephone lines.

CONTACT PERSON FOR MORE INFORMATION: Substantive program information as well as summaries of meetings and a roster of committee members may be obtained from Gail Horlick, M.S.W., J.D., Lead Staff Person for the NCVHS Subcommittee on Privacy and Confidentiality, Program Analyst, National Immunization Program, Centers for Disease Control and Prevention, 1600 Clifton Road, NE., Mailstop E-62, Atlanta, Georgia 30333, telephone (404)-639-8345; or Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/, where further information will be posted when available.

Dated: January 19, 2000.
James Scanlon,
Director, Division of Data Policy Office of the Assistant Secretary for Planning and Evaluation.

[FR Doc. 00-1885 Filed 1-26-00; 8:45 am]

BILLING CODE 4151-04-M